DEPARTMENT OF COMMERCE

National Oceanic and Atmospheric Administration

50 CFR Part 679

[Docket No. 060216045-6045-01; I.D. 100306E]

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from vessels using trawl and jig gear to catcher processor vessels using hook-and-line gear and vessels using pot gear in the Bering Sea and Aleutian Islands management area (BSAI). These actions are necessary to allow the 2006 total allowable catch (TAC) of Pacific cod to be harvested.

DATES: Effective October 6, 2006, until 2400 hours, A.l.t., December 31, 2006.

FOR FURTHER INFORMATION CONTACT: Jennifer Hogan, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2006 Pacific cod TAC in the BSAI is 189,768 metric tons (mt) as established by the 2006 and 2007 final harvest specifications for groundfish in the BSAI (71 FR 10894, March 3, 2006) and adjustments (71 FR 13777, March 17, 2006 and 71 FR 55347, September 22, 2006). Pursuant to § 679,29(a)(7)(i), the allocations of the Pacific cod TAC are 267 mt to catcher vessels using hook-and-line gear, 71,218 mt to catcher processor vessels using hook-and-line gear, 2,938 mt to catcher processor vessels using pot gear, 13,354 mt to catcher vessels using pot gear, 41,251 mt to catcher processors using trawl gear, and 41,251 mt to catcher vessels using trawl gear. The allocation to catcher vessels less than 60 feet (18.3 m) LOA using hook-and-line or pot gear is 3,232 mt and to vessels using jig gear is 1,514 mt after three reallocations (71 FR 14825, March 24, 2006, 71 FR 25508 May 1, 2006, and 71 FR 44230, August 4, 2006).

As of October 02, 2006, the Administrator, Alaska Region, NMFS (Regional Administrator), has determined that catcher processors using trawl gear will not be able to harvest 5,406 mt and catcher vessels using trawl gear will not be able to harvest 7,427 mt of Pacific cod allocated to those vessels under § 679.20(a)(7)(i)(B). Therefore, in accordance with § 679.20(a)(7)(ii)(C)(2), NMFS apportions 12,833 mt of Pacific cod from trawl gear to catcher processor vessels using hook-and-line gear and vessels using pot gear.

The Regional Administrator has also determined that vessels using jig gear will not harvest 1,300 mt of their Pacific cod allocation by the end of the year. Also, catcher vessels less than 60 feet (18.3 m) LOA using hook-and-line or pot gear will not be able to harvest any additional Pacific cod. Therefore, in accordance with § 679.20(a)(7)(ii)(C)(1) and § 679.20(a)(7)(ii)(B), NMFS is reallocating the unused amount of 1,300 mt of Pacific cod allocated to vessels using jig gear to catcher processor vessels using hook-and-line gear and vessels using pot gear.

The harvest specifications for Pacific cod included in the harvest specifications for groundfish in the BSAI (71 FR 10894, March 3, 2006) and adjustments (71 FR 13777, March 17, 2006 and 71 FR 55347, September 22, 2006) are revised as follows: 214 mt to vessels using jig gear, 84,709 mt to catcher processor vessels using hook-and-line gear, 13,880 mt to catcher vessels using pot gear, 3,053 mt to catcher processor vessels using pot gear, 35,845 mt to catcher processor vessels using trawl gear, and 33,824 mt to catcher vessels using trawl gear.

Classification

This action responds to the best available information recently obtained from the fishery. The Assistant Administrator for Fisheries, NOAA, (AA) finds good cause to waive the requirement to provide prior notice and opportunity for public comment pursuant to the authority set forth at 5 U.S.C. 553(b)(B) as such a requirement is impracticable and contrary to the public interest. This requirement is impracticable and contrary to the public interest as it would prevent NMFS from responding to the most recent fisheries data in a timely fashion and would delay the reallocation of projected unused amounts of Pacific cod in the BSAI. NMFS was unable to publish a notice providing time for public comment because the most recent, relevant data only became available as of October 2, 2006.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: October 03, 2006.
James P. Burgess,
Acting Director, Office of Sustainable Fisheries, National Marine Fisheries Service.

[FR Doc. E6-16675 Filed 10-6-06; 8:45 am]

BILLING CODE 3510-22-S